DEPARTMENT OF TRANSPORTATION

Federal Aviation Administration

Notice of Availability and Public Comment Period for the Draft Air Quality General Conformity Determination (DGCD) for Proposed New Runways and Associated Development at Chicago O'Hare International Airport, Chicago, IL

AGENCY: Federal Aviation Administration (FAA), Department of Transportation (DOT).

ACTION: Notice of availability of the Draft Air Quality General Conformity Determination and notice of public comment period.

Location of Proposed Action: O'Hare International Airport, Chicago, Illinois.

SUMMARY: The Federal Aviation Administration (FAA) is issuing this notice to advise the public that a Draft Air Quality General Conformity Determination (DGCD) for the O'Hare Modernization Environmental Impact Statement at Chicago O'Hare International Airport has been prepared and is available for public review and comment. In accordance with section 176(c) of the Federal Clean Air Act, FAA has assessed whether the air emissions that would result from FAA's action in approving the proposed projects conform with the Illinois State Implementation Plan (SIP). This assessment is contained in the DGCD.

The comment period is open as of the date of this Notice of Availability and closes June 20, 2005. Comments must be sent to Michael W. MacMullen of the FAA at the address shown below, and written comments must be postmarked and emails must be sent by not later than midnight, June 20, 2005.

SUPPLEMENTARY INFORMATION: The City of Chicago (City), Department of Aviation, as owner and operator of Chicago O'Hare International Airport (O'Hare or the Airport), PO Box 66142, Chicago, IL, 60666, proposes to modernize O'Hare to address existing and future capacity and delay problems. The City initiated master planning and the process of seeking FAA approval to amend its airport layout plan to depict the O'Hare Modernization Program (OMP). The City is also seeking the other necessary FAA approvals to implement the OMP and associated capital improvements and procedures. The FAA has prepared a DEIS addressing specific improvements at and adjacent to Chicago O'Hare International Airport, Chicago, Illinois. FAA's DEIS, released on January 21, 2005, presents an evaluation of the City's proposed project and reasonable alternatives. Under the City's concept, O'Hare's existing seven-runway configuration would be replaced by an eight-runway configuration, in which six runways would be oriented generally in the east/west direction, the existing northeast/southwest-oriented Runways 4L/22R and 4R/22L would remain, and Runways 14L/32R and 14R/32L would be closed.

The DGCD is available for review until June 20, 2005, on the FAA's Web site (http://agl.faa.gov/OMP/DEIS.htm), and at the following locations:

Arlington Heights Memorial Library, 500 North Dunton Ave., Arlington Heights;

Bellwood Public Library, 600 Bohland Ave., Bellwood;

Bensenville Community Public Library, 200 S Church Rd., Bensenville;

Berkeley Public Library, 1637 Taft Ave., Berkeley;

Bloomingdale Public Library, 101 Fairfield Way, Bloomingdale;

College of DuPage Library, 425 Fawell Blvd., Glen Ellyn;

Des Plaines Public Library, 1501 Ellinwood Ave., Des Plaines;

Eisenhower Public Library, 4652 N Olcott Ave., Harwood Heights;

Elk Grove Village Public Library, 1001 Wellington Ave., Elk Grove;

Elmhurst Public Library, 211 Prospect Ave., Elmhurst;

Elmwood Park Public Library, 4 W. Conti Pkwy., Elmwood Park;

Franklin Park Public Library, 10311 Grand Ave., Franklin Park;

Glendale Heights Library, 25 E Fullerton Ave., Glendale Heights;

Glenview Public Library, 1930 Glenview Rd., Glenview;

Harold Washington Library, 400 S. State., Chicago;

Hoffman Estates Library, 1550 Hassell Rd., Hoffman Estates;

Itasca Community Library, 500 W. Irving Park Rd., Itasca;

Lombard Public Library, 100 W. Maple St., Lombard;

Maywood Public Library, 121 S. 5th Ave., Maywood;

Melrose Park Public Library, 801 N. Broadway, Melrose Park;

Morton Grove Public Library, 6140 Lincoln Ave., Morton Grove;

Mount Prospect Public Library, 10 S. Emerson St., Mount Prospect;

Niles Public Library, 6960 W. Oakton St., Niles;

Northlake Public Library, 231 N. Wolf Rd., Northlake;

Oak Park Public Library, 834 Lake St., Oak Park;

Oakton Community College Library, 1616 E. Golf Rd., Des Plaines;

Park Rige Public Library, 20 S. Prospect Ave., Park Ridge;

River Forest Public Library, 735 Lathrop Ave., River Forest;

River Grove Public Library, 8638 W. Grand Ave., River Grove;

Schaumbrug Township District Library, 130 S. Roselle Rod, Schaumburg;

Schiller Park Public Library, 4200 Old River Rd., Schiller Park;

Villa Park Public Library, 305 S. Ardmore Ave., Villa Park; and

Wood Dale Public Library, 520 N. Wood Dale Rd., Wood Dale.

FOR FURTHER INFORMATION OR TO SUBMIT COMMENT CONTACT: Michael W. MacMullen, Airports Environmental Program Manager, Federal Aviation Administration, Chicago Airports District Office, 2300 East Devon Avenue, Des Plaines, IL 60018, Telephone: 847-294-8330, FAX: 847-294-7046; e-mail address: ompeis@faa.gov.

Issued in Des Plaines, Illinois on May 20, 2005.
Barry Cooper,
Manager, Chicago Area Modernization Program Office, Great Lakes Region.

[FR Doc. 05-9923 Filed 5-17-05; 8:45 am]

BILLING CODE 4910-13-M